DEPARTMENT OF AGRICULTURE

Farm Service Agency

Information Collection Request; Generic Clearance for the Collection of Qualitative Customer Feedback on the Farm Service Agency Service Delivery

AGENCY: Farm Service Agency.

ACTION: Notice; request for comments.

SUMMARY: In accordance with the Paperwork Reduction Act of 1995, the Farm Service Agency (FSA) is requesting comments from all interested individuals and organizations on a new information collection associated with the Generic Clearance for the Collection of Qualitative Customer Feedback on FSA Service Delivery. This is a relatively new option for approval that will streamline the timing to implement certain types of surveys and related collection of information. FSA will use the approval to cover the instruments of collection (such as a survey, a window pop-up survey, a focus group, or a comment card) to get customer feedback on FSA service delivery for various programs. This request for approval broadly addresses FSA's need for information about what our customers think of our services so that we can improve service delivery; specific information collection activities will be incorporated into the approval as the need for the information is identified. For example, when we implement a new program and provide information about the services for the program on our Web site, we may provide a voluntary customer service questionnaire about how well the program is working for our customers and specifically within the areas of our customer service.

DATES: We will consider comments that we receive by August 10, 2015.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Mary Ann Ball, USDA, Farm Service Agency, Room 3754-S, 1400 Independence Ave. SW., Washington, DC 20250-0572.

You may also send comments to the Desk Officer for Agriculture, Office of Information and Regulatory Affairs, Office of Management and Budget, Washington, DC 20503.

Copies of the information collection may be requested by contacting Mary Ann Ball at the above address.

FOR FURTHER INFORMATION CONTACT: Mary Ann Ball, (202) 720-4283.

SUPPLEMENTARY INFORMATION:

Title: Generic Clearance for the Collection of Qualitative Customer Feedback on Farm Service Agency Service Delivery.

OMB Control Number: 0560-XXXX.

Type of Request: New.

Abstract: FSA is proposing a new information collection that will provide fast-track approval on feedback instruments for various FSA programs. This is a relatively new option for approval that will streamline the timing to implement certain types of surveys and related collection of information. This notice and related request for approval lays the foundation for approving our plans to collect information to improve service delivery across all FSA activities. As the need for a specific information collection activity is identified, under this fast track approval process, FSA will be able to submit the request directly to OMB for approval and the information for the information collection and related burden will be incorporated into the overall approval. For example, when we implement a new program and provide information about the services for the program on our Web site, we may provide a voluntary customer service questionnaire about how well the program is working for our customers and specifically within the areas of our customer service. The information collection activity provides a means to gather qualitative customer and stakeholder feedback in an efficient, timely manner, and that is consistent with FSA's commitment to improving service delivery. By qualitative feedback, we mean, information, generally from customers, that provides useful insights on perceptions and opinions based on experiences with FSA service delivery, but such information does not include statistical surveys that yield quantitative results that can be generalized to the population. The qualitative feedback will:

• Provide insights into customer or stakeholder perceptions, experiences, and expectations,

• Provide an early warning of issues with service, and

• Focus attention on areas where communication, training, or changes in operations might improve delivery of products or services.

The collection will allow for ongoing, collaborative, and actionable communications between FSA and its customers and stakeholders. It will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on FSA's services will be unavailable.

FSA will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• The collections are targeted to the solicitation of opinions from respondents who have experience with the program or may have experience with the program in the near future;

• Personally identifiable information (PII) is collected only to the extent necessary and is not retained;

• Information gathered will be used only internally for general service improvement and program management purposes and is not intended for release outside of FSA;

• Information gathered will not be used for the purpose of substantially informing influential policy decisions; and

• Information gathered will yield qualitative information; the collections will not be designed or expected to yield statistically reliable results or used as though the results are generalizable to the population of study.

Feedback collected under this generic clearance will provide useful qualitative information. It will not yield data that can be generalized to the overall population. The qualitative information will not be used for quantitative information collections that are designed to yield reliably actionable results, such as monitoring trends over time or documenting program performance. Such data usage requires more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

The formula used to calculate the total burden hours is “estimated average time per responses” times “total annual responses.”

Estimate of Burden: Public reporting burden for this information collection is estimated to average 30 minutes per response.

Respondents: Individuals and Households; Businesses; and Organizations; State; Local, or Tribal government.

Estimated Number of Respondents: 10,000.

Estimated Annual Number of Responses per Respondent: 1.

Estimated Total Annual Responses. 10,000.

Estimated Average Time per Response: 30 minutes (0.50 hours).

Estimated Total Annual Burden Hours on Respondents: 5,000 hours.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Signed on June 5, 2015.
Val Dolcini,
Administrator, Farm Service Agency.

[FR Doc. 2015-14183 Filed 6-9-15; 8:45 am]

BILLING CODE 3410-05-P